DEPARTMENT OF HEALTH AND HUMAN SERVICES

National Institutes of Health

Center for Scientific Review; Amended Notice of Meeting

Notice is hereby given of a change in the meeting of the Center for Scientific Review Advisory Council, October 28, 2013, 08:00 a.m. to October 28, 2013, 04:00 p.m., National Institutes of Health, 6701 Rockledge Drive, Room 3091, Bethesda, MD, 20892 which was published in the Federal Register on September 18, 2013, 78 FR 57399.

The meeting will be held at the Bethesda Marriott Hotel, 5151 Pooks Hill Road, Congressional Ballroom, Bethesda, MD 20814 on December 16, 2013, starting at 08:00 a.m. and ending at 04:00 p.m. The meeting is open to the public.

Dated: November 20, 2013.
Anna Snouffer,
Deputy Director, Office of Federal Advisory Committee Policy.

[FR Doc. 2013-28263 Filed 11-25-13; 8:45 am]

BILLING CODE 4140-01-P